DEPARTMENT OF COMMERCE

National Oceanic and Atmospheric Administration

[RTID 0648-XC652]

Peer Review Assessment for the Catch Accounting and Monitoring System (CAMS)

AGENCY: National Marine Fisheries Service (NMFS), National Oceanic and Atmospheric Administration (NOAA), Commerce.

ACTION: Notice of public meeting.

SUMMARY: NMFS will convene the Peer Review Assessment Meeting for the purpose of reviewing CAMS by an independent panel of stock assessment experts from the Center of Independent Experts (CIE). The public is invited to attend the presentations and discussions between the review panel and the scientists who have participated in the CAMS development process.

DATES: The public portion of the Peer Review Assessment Meeting will be held from January 17, 2023—January 19, 2023. The meeting will conclude on January 19, 2023 at 5 p.m. Eastern Standard Time. Please see SUPPLEMENTARY INFORMATION for the daily meeting agenda.

ADDRESSES: The meeting will be held via WebEx. Link: https://noaanmfs-meets.webex.com/noaanmfs-meets/j.php?MTID=m3a2ba4dd6ba5b6a288cb12428f0ad3a0.

Meeting number (access code): 2763 083 1360

Meeting password: XAub5WAXx78

FOR FURTHER INFORMATION CONTACT: David Gouveia, phone: (978) 281-9280; email: david.gouveia@noaa.gov and Michael Simpkins, phone: 774-392-4652; email: michael.simpkins@noaa.gov.

SUPPLEMENTARY INFORMATION: For further information, please visit the CAMS Peer Review Event Page: https://www.fisheries.noaa.gov/event/catch-accounting-and-monitoring-system-peer-review.

Daily Meeting Agenda—Peer Review Assessment Meeting

All times are approximate Eastern Standard Time, and may be changed at the discretion of the review panel chair. The meeting is open to the public; however, during the report writing sessions we ask that the public refrain from engaging in discussion with the peer review panel.

Time | Topic | Presenter(s) | ToR
Tuesday, January 17, 2023
11 a.m.-11:15 a.m | Welcome/Logistics Introductions/Agenda/Conduct of Meeting | Mike Simpkins, David Gouveia, Cate O'Keefe.
11:15 a.m.-11:30 a.m | Introductions | Cate O'Keefe
11:30 a.m.-12:30 p.m | High-level Overview | Chris Legault | 1a.
12:30 p.m.-1:30 p.m | Data Sources and Processes | J. Michael Lanning | 1a, 1b, 1c, 1e.
1:30 p.m.-2 p.m | Break
2 p.m.-2:45 p.m | Landings | Daniel Hocking | 1a, 1b, 1c, 1e.
2:45 p.m.-3:30 p.m | Discards | Ben Galuardi | 1a, 1b, 1c, 1e.
3:30 p.m.-3:45 p.m | Break
3:45 p.m.-4:45 p.m | Data Conflict Management | Chris Legault | 1f.
4:45 p.m.-5 p.m | Public Comment | Cate O'Keefe
5 p.m | Adjourn
Wednesday, January 18, 2023
11 a.m.-11:05 a.m | Welcome/Logistics | Cate O'Keefe.
11:05 a.m.-11:20 a.m | Follow-up from Day 1 | Cate O'Keefe, CIE Review Panel.
11:20 a.m.-12:20 p.m | CAMS Stock Assessment Comparisons | Chris Legault | 1d, 1g.
12:20 p.m.-1:20 p.m | CAMS Quota Monitoring Comparisons | Daniel Hocking, Ben Galuardi | 1d, 1g.
1:20 p.m.-1:50 p.m | Break
1:50 p.m.-2:50 p.m | New Estimations | Daniel Hocking, Chris Legault | 1a.
2:50 p.m.-3:50 p.m | Operationalizing CAMS | J. Michael Lanning, Daniel Hocking | 1g.
3:50 p.m.-4:05 p.m | Break
4:05 p.m.-4:45 p.m | TOR 1 Discussion | Cate O'Keefe, CIE Review Panel.
4:45 p.m.-5 p.m | Public Comment | Cate O'Keefe.
5 p.m | Adjourn
Thursday, January 19, 2023
11 a.m.-11:05 a.m | Welcome/Logistics | Cate O'Keefe.
11:05 a.m.-11:20 a.m | Follow-up from Day 2 | Cate O'Keefe, CIE Review Panel
11:20 a.m.-1:20 p.m | Future of CAMS | Chris Legault, J. Michael Lanning | 2a-h.
1:20 p.m.-1:50 p.m | Break
1:50 p.m.-3 p.m | Key Findings | Cate O'Keefe, CIE Review Panel
3 p.m.-5 p.m. | Report Writing | Cate O'Keefe, CIE Review Panel
5 p.m | Adjourn

The meeting is open to the public; however, during the `Report Writing' session on Thursday, January 19, the public should not engage in discussion with the Peer Review Panel.

Special Accommodations

This meeting is physically accessible to people with disabilities. Special requests should be directed to David Gouveia and Michael Simpkins, via email.

Dated: January 4, 2023.
Jennifer M. Wallace,
Acting Director, Office of Sustainable Fisheries, National Marine Fisheries Service.

[FR Doc. 2023-00150 Filed 1-6-23; 8:45 am]

BILLING CODE 3510-22-P